DEPARTMENT OF TRANSPORTATION

National Highway Traffic Safety Administration

[Docket No. NHTSA 2004-17438; Notice 2]

Pirelli Tire North America, Grant of Petition for Decision of Inconsequential Noncompliance

Pirelli Pneumatici S.p.A has determined that certain tires it produced do not comply with S4.3(d) and S4.3(e) of 49 CFR 571.109, Federal Motor Vehicle Safety Standard (FMVSS) No. 109, “New pneumatic tires.” Pursuant to 49 U.S.C. 30118(d) and 30120(h), Pirelli Tire LLC (Pirelli), as agent for Pirelli Pneumatici S.p.A, has petitioned for a determination that this noncompliance is inconsequential to motor vehicle safety and has filed an appropriate report pursuant to 49 CFR part 573, “Defect and Noncompliance Reports.” Notice of receipt of the petition was published with a 30 day comment period on April 20, 2004, in the Federal Register (69 FR 21189). NHTSA received no comments.

A total of approximately 190 tires are involved. These are Pzero Asimmetrico 275/40ZR18 99Y (F) H405 tires, which Pirelli Pneumatici S.p.A produced intermittently during the period January to April, 2003. They are marked “reinforced” when in fact they are not, and are marked as two ply when they are one ply. Paragraph S4.3 of FMVSS No. 109 requires “each tire shall have permanently molded into or onto both sidewalls * * * (d) The generic name of each cord material used in the plies * * * of the tire; and (e) Actual number of plies in the sidewall, and the actual number of plies in the tread area if different.”

Pirelli states that the incorrect sidewall inscription does not compromise in any way the integrity or the performance characteristics of the tires in question and does not constitute any safety-related issue. Therefore, Pirelli believes that the noncompliance is inconsequential to motor vehicle safety, and that no corrective action is warranted.

With regard to the tires being marked “reinforced” when in fact they are not, NHTSA has no requirement that a tire be labeled with the word “reinforced” even when it is designed to accommodate a greater load than a standard tire of the same size. Therefore, the agency has determined that the petition is moot with regard to this marking.

With regard to the incorrect ply marking, the agency agrees with Pirelli's statement that the marking of the tires as two ply when they are one ply does not present a serious safety concern. The Transportation Recall, Enhancement, Accountability, and Documentation (TREAD) Act (Pub. L. 106-414) required that the agency initiate rulemaking to improve tire label information. In response, the agency published an Advance Notice of Proposed Rulemaking (ANPRM) in the Federal Register on December 1, 2000 (65 FR 75222).

The agency received more than 20 comments on the tire labeling information. With regard to the tire construction labeling requirements of FMVSS No. 109, S4.3(d) and (e), most commenters indicated that the information was of little or no safety value. In addition, the agency conducted a series of focus groups, as required by the TREAD Act, to examine consumer perceptions and understanding of tire labeling. Few of the focus group participants had knowledge of tire labeling beyond the tire brand name, tire size, and tire pressure. Therefore, in the agency's judgment, the noncompliance will have an inconsequential effect on the operational safety of vehicles on which these tires are mounted. In addition, the tires are certified to meet all the performance requirements of FMVSS No. 109. Pirelli has corrected the problem.

In consideration of the foregoing, NHTSA has decided that the petitioner has met its burden of persuasion that the noncompliance described is inconsequential to motor vehicle safety. Accordingly, Pirelli's petition is granted and the petitioner is exempted from the obligation of providing notification of and a remedy for the noncompliance.

Authority: 49 U.S.C. 30118, 30120; delegations of authority at 49 CFR 1.50 and 501.8.

Issued on: July 6, 2004.
Kenneth N. Weinstein,
Associate Administrator for Enforcement.

[FR Doc. 04-15653 Filed 7-8-04; 8:45 am]

BILLING CODE 4910-59-U